FEDERAL MARITIME COMMISSION

Ocean Transportation Intermediary License Revocations

The Commission gives notice that the following Ocean Transportation Intermediary licenses have been revoked pursuant to section 19 of the Shipping Act of 1984 (46 U.S.C. 40101) effective on the date shown.

License No.: 2542F.

Name: Thomas M. Beidleman dba A.C.S. Forwarding.

Address: 2976 Alvardo Street, Terminal K, San Leandro, CA 94577.

Date Revoked: April 16, 2013.

Reason: Failed to maintain a valid bond.

License No.: 013266N.

Name: Trans-Aero-Mar, Inc.

Address: 8620 NW 70th Street, Miami, FL 33166.

Date Revoked: April 9, 2013.

Reason: Failed to maintain a valid bond.

License No.: 15637N.

Name: Combitrans Consolidators, Inc.

Address: 2400 Yorktown Street, Houston, TX 77056.

Date Revoked: April 14, 2013.

Reason: Failed to maintain a valid bond.

License No.: 16338N.

Name: Brisk International Express, Inc.

Address: 8473 NW 74th Street, Miami, FL 33166.

Date Revoked: April 12, 2013.

Reason: Failed to maintain a valid bond.

License No.: 016491F.

Name: World International Cargo Transfer USA, Inc.

Address: 15832 S. Broadway Avenue, Suite D, Gardena, CA 90248.

Date Revoked: April 13, 2013.

Reason: Failed to maintain a valid bond.

License No.: 16735NF.

Name: L R G International Inc.

Address: 5111 West Knox Street, Tampa, FL 33634.

Date Revoked: April 18, 2013.

Reason: Failed to maintain valid bonds.

License No.: 020500N.

Name: Ben-New Shipping, Inc.

Address: 1383 Kala Drive, Lithonia, GA 30058.

Date Revoked: April 11, 2013.

Reason: Failed to maintain a valid bond.

License No.: 020686F.

Name: Combitrans Logistics, Inc.

Address: 2400 Yorktown Street, Houston, TX 77056.

Date Revoked: April 14, 2013.

Reason: Failed to maintain a valid bond.

License No.: 020227NF.

Name: Rounders Logistics, LLC.

Address: 2374 Old Highway 60 W, Mulberry, FL 33860-9370.

Date Revoked: April 5, 2013.

Reason: Voluntary Surrender of License.

License No.: 023281N.

Name: Comis Global Logistics, Inc.

Address: 18005 Savarona Way, Carson, CA 90746.

Date Revoked: April 7, 2013.

Reason: Failed to maintain a valid bond.

James A. Nussbaumer,
Deputy Director, Bureau of Certification and Licensing.

[FR Doc. 2013-10333 Filed 5-1-13; 8:45 am]

BILLING CODE 6730-01-P